DEPARTMENT OF TRANSPORTATION

Surface Transportation Board

[STB Docket No. AB-515 (Sub-No. 2); STB Finance Docket No. 35160]

Central Oregon & Pacific Railroad, Inc.—Abandonment and Discontinuance of Service—in Coos, Douglas, and Lane Counties, OR; Oregon International Port of Coos Bay—Feeder Line Application—Coos Bay Line of the Central Oregon & Pacific Railroad, Inc.

AGENCY: Surface Transportation Board, DOT.

ACTION: Notice of public hearing.

SUMMARY: The Surface Transportation Board will hold a public hearing concerning the abandonment and feeder line applications in the respective above-titled dockets. The purpose of the hearing will be to allow interested persons to comment on the applications. On the same day, immediately prior to the hearing, Board staff will hold a public information session concerning the Board's procedures for adjudicating abandonment and feeder line cases.

Date/Location: The public hearing will take place on August 21, 2008, beginning at 9:30 a.m., at the Wayne L. Morse U.S. Courthouse, 405 East Eighth Avenue, Eugene, Oregon, in Room 2200 (the Jury Assembly Room). Any person wishing to speak at the hearing must file with the Board a written notice of intent to participate, identifying (1) the party represented, (2) the proposed speaker, and (3) the number of minutes requested. Notices of intent to participate should be filed as soon as possible, but no later than August 11, 2008. Following receipt of notices of intent, the Board will release a schedule of speakers for the hearing.

The public information session will be held on August 21, 2008 from 8:15-9:15 a.m., in Room 1702 (the GSA Conference Room) of the Wayne L. Morse U.S. Courthouse, 405 East Eighth Avenue, Eugene, Oregon. At that session, Board staff will discuss, and be available to answer questions regarding, the procedures the Board uses in processing abandonment and feeder line cases. No notice of intent to participate in the public information session is necessary.

The Wayne L. Morse U.S. Courthouse is open Monday through Friday from 8 a.m. to 5 p.m. All visitors must present a valid form of government-issued photo identification and pass screening before being granted access into the building. Cameras are not permitted in the building. Visitors will have access to public areas only.

ADDRESSES: Notices of intent to participate in the hearing may be submitted either via the Board's e-filing format or in the traditional paper format. Any person using e-filing should attach a document and otherwise comply with the Board's http://www.stb.dot.gov Web site, at the “E-FILING” link. Any person submitting a filing in the traditional paper format should send the filing to: Surface Transportation Board, Attn: STB Docket No. AB-515 (Sub-No. 2) and STB Finance Docket No. 35160, 395 E Street, SW., Washington, DC 20423-0001.

FOR FURTHER INFORMATION, CONTACT: Joseph Dettmar, (202) 245-0395. [Assistance for the hearing impaired is available through the Federal Information Relay Service (FIRS) at: (800) 877-8339.]

SUPPLEMENTARY INFORMATION: A decision served in STB Docket No. AB-515 (Sub-No. 2) on July 29, 2008, provided that a public meeting will be held to permit interested persons to express their views about the application filed under 49 U.S.C. 10903 by Central Oregon & Pacific Railroad, Inc. (CORP) on July 14, 2008, for permission to abandon and discontinue service over portions of a line of railroad known as the Coos Bay Subdivision. CORP seeks authority to abandon certain portions of the Coos Bay Subdivision that it owns, namely the line extending from milepost 669.0 near Vaughn, OR, to milepost 763.13 near Cordes, OR, a distance of 94.13 miles. CORP also seeks authority to discontinue service over the portions of the Coos Bay Subdivision that it leases: (1) The Coquille Branch extending from milepost 763.13 near Cordes to milepost 785.5 near Coquille, OR, a distance of 22.37 miles, in Coos County, OR, and (2) the LPN Branch extending between CORP milepost 738.8 and LPN Branch milepost 2.0, a distance of 2.0 miles.

Additionally, a decision served in STB Finance Docket No. 35160 on August 1, 2008, accepted a feeder line application under 49 U.S.C. 10907 filed by the Oregon International Port of Coos Bay on July 11, 2008, to acquire approximately 111.016 miles of CORP's rail line between milepost 763.130, near Cordes, and milepost 652.114, near Danebo, OR. In that decision, the Board also announced a procedural schedule for the proceeding. Notice of the Board's acceptance of the application will be published in the Federal Register by August 8, 2008.

At the hearing, the Board will hear testimony in both the abandonment proceeding and the feeder line proceeding. Speakers at the hearing may, but are not required to, bring written copies of their testimony to the hearing and offer those statements for the record in the proceedings. Speakers who wish to enhance their presentation by using projector-adaptable visual displays and/or handouts may do so. Any projector-adaptable visual displays must be submitted to the Board in electronic form by August 15, 2008. Interested persons should also consult the procedural schedules in the feeder line and abandonment dockets for other opportunities to submit written comments in those proceedings. Live audio/video streaming of the hearing will not be available.

This action will not significantly affect either the quality of the human environment or the conservation of energy resources.

Dated: August 1, 2008.
Anne K. Quinlan,
Acting Secretary.

[FR Doc. E8-18108 Filed 8-5-08; 8:45 am]

BILLING CODE 4915-01-P